U.S.-CHINA ECONOMIC AND SECURITY REVIEW COMMISSION

Notice of Open Public Hearing

AGENCY: U.S.-China Economic and Security Review Commission.

ACTION: Notice of open public hearing—March 26, 2012, Manassas, VA.

SUMMARY: Notice is hereby given of the following hearing of the U.S.-China Economic and Security Review Commission.

Name: Dennis Shea, Chairman of the U.S.-China Economic and Security Review Commission. The Commission is mandated by Congress to investigate, assess, and report to Congress annually on “the national security implications of the economic relationship between the United States and the People's Republic of China.” Pursuant to this mandate, the Commission will hold a public hearing in Washington, DC on March 26, 2012, to address “Developments in China's Nuclear and Cyber Programs.”

Background: This is the third public hearing the Commission will hold during its 2012 report cycle to collect input from academic, industry, and government experts on national security implications of the U.S. bilateral trade and economic relationship with China. The March 26 hearing will examine recent trends in China's computer exploitations and China's nuclear forces and strategies. The hearing will be co-chaired by Commissioners Larry Wortzel and Michael Wessel. Any interested party may file a written statement by March 23, 2012, by mailing to the contact below. A portion of each panel will include a question and answer period between the Commissioners and the witnesses. Transcripts of past Commission public hearings may be obtained from the USCC Web site www.uscc.gov.

Date and Time: Monday March 26, 2012, 9 a.m.-3 p.m. Eastern Time. A detailed agenda for the hearing will be posted to the Commission's Web Site at www.uscc.gov as soon as available. Please check the Web site for possible changes to the hearing schedule. Reservations are not required to attend the hearing.

ADDRESSES: The hearing will be held at the Hylton Performing Arts Center, 10960 George Mason Circle Manassas, VA 20109. Reservations are not required to attend the hearing.

FOR FURTHER INFORMATION CONTACT: Any member of the public seeking further information concerning the hearing should contact Tim Lipka, 444 North Capitol Street NW., Suite 602, Washington DC 20001; phone: 202-624-1407, or via email at contact@uscc.gov. Reservations are not required to attend the hearing.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: March 7, 2012.
Michael Danis,
Executive Director, U.S.-China Economic and Security Review Commission.

[FR Doc. 2012-5959 Filed 3-12-12; 8:45 am]

BILLING CODE 1137-00-P